DEPARTMENT OF AGRICULTURE

Animal and Plant Health Inspection Service

9 CFR Part 3

[Docket No. APHIS-2006-0044]

Animal Welfare; Elephants

AGENCY: Animal and Plant Health Inspection Service, USDA.

ACTION: Notice of petition and request for comments.

SUMMARY: We are notifying the public that the Animal and Plant Health Inspection Service has received a petition from In Defense of Animals requesting that we issue an interpretive rule or policy to clarify the space and living conditions required for captive elephants, and that we enforce the Animal Welfare Act and its implementing regulations by requiring that exhibitors fully comply with the regulations. We are soliciting comments from the public regarding the petition, and whether we should continue to regulate the handling, care, treatment, and transport of elephants covered by the Animal Welfare Act under the general standards in the regulations or promulgate specific standards for elephants. We are also requesting comments regarding what should be included in any such standards.

DATES: We will consider all comments that we receive on or before October 10, 2006.

ADDRESSES: You may submit comments by either of the following methods:

• Federal eRulemaking Portal: Go to http://www.regulations.gov and, in the lower “Search Regulations and Federal Actions” box, select “Animal and Plant Health Inspection Service” from the agency drop-down menu, then click on “Submit.” In the Docket ID column, select APHIS-2006-0044 to submit or view public comments and to view supporting and related materials available electronically. Information on using Regulations.gov, including instructions for accessing documents, submitting comments, and viewing the docket after the close of the comment period, is available through the site's “User Tips” link.

• Postal Mail/Commercial Delivery: Please send four copies of your comment (an original and three copies) to Docket No. APHIS-2006-0044, Regulatory Analysis and Development, PPD, APHIS, Station 3A-03.8, 4700 River Road Unit 118, Riverdale, MD 20737-1238. Please state that your comment refers to Docket No. APHIS-2006-0044.

Reading Room: You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: Dr. Barbara Kohn, Senior Staff Veterinarian, Animal Care, APHIS, 4700 River Road Unit 84, Riverdale, MD 20737-1234; (301) 734-7833.

SUPPLEMENTARY INFORMATION:

Background

The Animal Welfare Act (AWA) (7 U.S.C. 2131 et seq.) authorizes the Secretary of Agriculture to promulgate standards and other requirements governing the humane handling, care, treatment, and transportation of certain animals by dealers, research facilities, exhibitors, carriers, and other regulated entities. The Secretary of Agriculture has delegated the responsibility for enforcing the AWA to the Administrator of the Animal and Plant Health Inspection Service (APHIS). Regulations established under the AWA are contained in 9 CFR parts 1, 2, and 3. Currently, part 3 consists of subparts A through E, which contain specific standards for dogs and cats, guinea pigs and hamsters, rabbits, nonhuman primates, and marine mammals, respectively, and subpart F, which sets forth the general standards for warmblooded animals not otherwise specified in that part, including elephants.

In a petition ¹ dated February 2, 2006, In Defense of Animals (the petitioner) stated that exhibited elephants have chronic foot and joint problems due to inadequate space (indoor and outdoor enclosures) and inadequate living conditions (including amount of time confined, type of substrate, and cleanliness of floors). The petitioner requested that APHIS issue an interpretive rule or policy that clarifies the space and living conditions required for captive elephants, and that APHIS enforce the AWA and its implementing regulations by requiring that exhibitors fully comply with the regulations.

¹ The petition is available on the Regulations.gov Web site. Go to http://www.regulations.gov, and, in the lower “Search Regulations and Federal Actions” box, select “Animal and Plant Health Inspection Service” from the agency drop-down menu, then click on “Submit.” In the Docket ID column, select APHIS-2006-0044. The petition will appear in the resulting list of documents. A copy of the petition may also be obtained from the person listed under FOR FURTHER INFORMATION CONTACT.

We are requesting comments from the public on the petition. We are also requesting comments on whether specific standards should be promulgated for elephants and what should be included in such standards. In particular, we invite responses to the following questions:

1. What are the causes of arthritis in elephants?

2. What, if any, foot care practices have been used on captive elephants to maintain healthy feet?

3. What substrates are best for captive elephants? Are there any substrate conditions that promote foot problems?

4. Do captive elephants require a certain amount of exercise (i.e., walking) to maintain healthy feet?

5. What industry/professional standards are available for elephant care and husbandry?

6. Are there any other health or care issues related to elephants that should be specifically addressed in the AWA standards?

We welcome all comments on the issues outlined above and encourage the submission of scientific data, studies, or research to support your comments and position, including scientific data or research that supports any industry or professional standards that pertain to elephant care. We also invite data on the costs and benefits associated with any recommendations. We will consider all comments and recommendations we receive.

Authority: 7 U.S.C. 2131-2159; 7 CFR 2.22, 2.80, and 371.7.

Done in Washington, DC, this 3rd day of August 2006.
W. Ron DeHaven,
Administrator, Animal and Plant Health Inspection Service.

[FR Doc. E6-12935 Filed 8-8-06; 8:45 am]

BILLING CODE 3410-34-P